CONSUMER PRODUCT SAFETY COMMISSION

Sunshine Act Meetings

FEDERAL REGISTER CITATION OF PREVIOUS ANNOUNCEMENT: Vol. 76, No. 140, Thursday July 21, 2011, page 43659.

ANNOUNCED TIME AND DATE OF OPEN MEETING: 10-11 a.m., Wednesday July 27, 2011.

CHANGES TO OPEN MEETING: TIME CHANGE to 10 a.m.-12 p.m. REVISED AGENDA: Matters to be Considered: (1) Decisional Matters: (a) Phthalates notice of requirements; (b) Phthalates enforcement policy; (c) 100ppm lead enforcement statement; (2) Briefing Matter: Virginia Graeme Baker Pool and Spa Safety Act; Incorporation by reference of ANSI successor standard.

ANNOUNCED TIME AND DATE OF CLOSED MEETING: 11 a.m.-12 p.m., Wednesday July 27, 2011.

CHANGES TO CLOSED MEETING: TIME CHANGE to 2-3p.m.

For a recorded message containing the latest agenda information, call (301) 504-7948.

CONTACT PERSON FOR ADDITIONAL INFORMATION: Todd A. Stevenson, Office of the Secretary, 4330 East West Highway, Bethesda, MD 20814 (301) 504-7923.

Dated: July 21, 2011.
Todd A. Stevenson,
Secretary.

[FR Doc. 2011-18808 Filed 7-21-11; 11:15 am]

BILLING CODE 6355-01-P